DEPARTMENT OF HOMELAND SECURITY

Coast Guard

[USCG-2006-24935]

Merchant Marine Personnel Advisory Committee; Notice of Open Teleconference Meetings

AGENCY: Coast Guard, DHS.

ACTION: Notice of meetings.

SUMMARY: This notice announces teleconferences of the Merchant Marine Personnel Advisory Committee (MERPAC). The Federal Advisory Committee Act (Pub. L. 92-463, 86 Stat. 770) requires that public notice of these meetings be announced in the Federal Register. The purpose of these teleconferences is for MERPAC to discuss and prepare comments to the docket on the joint Transportation Security Administration's (TSA) and Coast Guard's Transportation Worker's Identification Credential (TWIC) proposed rule and on the Coast Guard's Merchant Mariner Credential (MMC) proposed rule. MERPAC provides advice and makes recommendations to the Coast Guard on matters related to the training, qualification, licensing, certification, and fitness of seamen serving in the U.S. merchant marine.

DATES: The teleconference calls will take place on Tuesday, June 20th, 2006, from 12 p.m. until 3 p.m., and on Thursday, June 29th, 2006, from 12 p.m. until 3 p.m. These meetings may adjourn early if all business is finished.

ADDRESSES: Members of the public may participate by dialing 1-202-366-3920, pass code 6934 on June 20th, and by dialing 1-202-366-3920, pass code 7124 on June 29th. Public participation is welcomed; however, the number of teleconference lines is limited and available on a first-come, first-served basis. Members of the public may also participate by coming to Room 1208, U.S. Coast Guard Headquarters, 2100 Second Street, SW., Washington, DC 20593-0001.

FOR FURTHER INFORMATION CONTACT: For questions on this notice, contact Mr. Gould, Assistant to the Executive Director, telephone 202-372-1409, fax 202-372-1926, or e-mail mgould@comdt.uscg.mil.

SUPPLEMENTARY INFORMATION: Notice of these meetings is given under the Federal Advisory Committee Act, 5 U.S.C. App. 2 (Pub. L. 92-463, 86 Stat. 770, as amended).

Tentative Agendas

Tuesday, June 20, 2006

12 p.m.-12:05 p.m.: Welcome and Opening Remarks—MERPAC Chairman Andrew McGovern.

12:05 p.m.-2:30 p.m.: Open discussion and solicitation of comments to the docket of the Transportation Security Administration's (TSA) Transportation Worker's Identification Credential (TWIC) proposed rules and of the Coast Guard's Merchant Mariner Credential (MMC) proposed rules.

2:30 p.m.-3 p.m.: Public comment period.

3 p.m.: Meeting adjourned.

Thursday, June 29, 2006

12 p.m.-12:05 p.m.: Welcome and Opening Remarks—MERPAC Chairman Andrew McGovern.

12:05 p.m.-2:30 p.m.: Open discussion and solicitation of comments to the docket of the Transportation Security Administration's (TSA) Transportation Worker's Identification Credential (TWIC) proposed rules and of the Coast Guard's Merchant Mariner Credential (MMC) proposed rules.

2:30 p.m.-2:45 p.m.: Public comment period.

2:45 p.m.-3 p.m.: MERPAC votes on and delivers official recommendations to the Coast Guard.

3 p.m.: Meeting adjourned.

Procedural

All meetings are open to the public. Please note that the meetings may adjourn early if all business is finished. At the Chair's discretion, members of the public may make oral presentations during the meetings. If you would like to make an oral presentation at a meeting, please notify Mr. Gould no later than June 13, 2006.

Information on Services for Individuals With Disabilities

For information on facilities or services for individuals with disabilities or to request special assistance at the meetings, contact Mr. Gould as soon as possible.

Dated: May 30, 2006.
Howard L. Hime,
Acting Director of Standards, Assistant Commandant for Prevention.

[FR Doc. E6-8631 Filed 6-2-06; 8:45 am]

BILLING CODE 4910-15-P